DEPARTMENT OF HEALTH AND HUMAN SERVICES

Office of the Secretary

[Document Identifier: HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the ICR must be received on or before November 25, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference.

Information Collection Request Title: National Standards for Culturally and Linguistically Appropriate Services (CLAS) in Health and Health Care: Evaluation of Awareness, Adoption, and Implementation

Abstract: The Office of Minority Health (OMH), Office of the Secretary (OS), Department of Health and Human Services (HHS) is requesting a new approval from OMB for data collection on an evaluation project entitled “National Standards for Culturally and Linguistically Appropriate Services (CLAS) in Health and Health Care: Evaluation of Awareness, Adoption, and Implementation.” The purpose of this assessment is to systematically describe and examine the awareness, knowledge, adoption, and implementation of the HHS OMH's National Standards for Culturally and Linguistically Appropriate Services in Health and Health Care (hereafter referred to as the National CLAS Standards) in a sample of health and health care organizations, and to use the resultant data to develop a preliminary, model of implementation to guide organizational adoption and implementation of the National CLAS Standards. Originally released in 2001, the HHS OMH's National CLAS Standards are a set of recommended action steps intended to advance health equity, improve quality, and help eliminate health care disparities. The National CLAS Standards, revised in 2013, are comprised of 15 Standards that provide health and health care organizations with a blueprint for successfully implementing and maintaining culturally and linguistically appropriate services.

Despite increased recognition of the National CLAS Standards as a fundamental tool for health and health care organizations to use in their efforts to become more culturally and linguistically competent, neither the original nor the enhanced National CLAS Standards have been systematically evaluated in terms of public awareness, organizational adoption and implementation, or impact on health services outcomes. There is a need, then, to collect information from health and health care organizations to understand how and to what extent the National CLAS Standards have been utilized by its intended audiences. Likely Respondents:

The information to be collected as part of this assessment will come from five categories of respondents: Training and Development Specialists and Managers; Other Management; Health and Health Care Organization Executives and Managers; Health and Health Care Providers, Managers, and Support Staff; Health Care Practitioners; and Technical Staff.

Total Estimated Annualized Burden—Hours
Form name | Type of respondent | Number of respondent | Number responses per respondent | Average burden per response (hours) | Total burden (hours)
National CLAS Standards Stakeholder Interview | Training and Development Specialists and Managers; Other Management Occupations | 21 | 1 | 45/60 | 16
CLAS Stakeholder Interview | Training and Development Specialists and Managers; Other Management Occupations | 21 | 1 | 1 | 21
Health and Health Care Organization Leadership Interview | Health and Health Care Organization Executives and Managers | 140 | 1 | 1 | 140
Health and Health Care Organization Staff Survey | Health and Health Care Providers, Managers, and Support Staff | 2,500 | 1 | 15/60 | 625
Health and Health Care Organization Screener Survey | Health and Health Care Organization Executives | 50,000 | 1 | 5/60 | 4,167
National CLAS Standards Experience Form | Health Care Practitioners and Technical Occupations | 240,000 | 1 | 10/60 | 40,000
Total |  |  |  |  | 44,969

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-23000 Filed 9-25-14; 8:45 am]

BILLING CODE 4150-29-P